DEPARTMENT OF THE INTERIOR

Bureau of Land Management

[MT-070-1430-FQ; MTM 058317 and MTM 40412]

Public Land Order No. 7712; Modification of Executive Order Dated July 2, 1910 and Secretarial Order Dated May 6, 1910; Montana

AGENCY: Bureau of Land Management, Interior.

ACTION: Public land order.

SUMMARY: This order modifies an Executive Order and a Secretarial Order insofar as they affect 20 acres of public lands withdrawn by Power Site Reserve No. 141. This action also notifies the public of a Federal Energy Regulatory Commission determination that opens 10 acres within a Power Project overlapping the Power Site Reserve. The combined actions will open the lands to a land exchange subject to Section 24 of the Federal Power Act.

EFFECTIVE DATE: July 25, 2008.

FOR FURTHER INFORMATION CONTACT: Richard Hotaling, BLM Butte Field Office, 106 North Parkmont, Butte, Montana, 406-533-7600, or Sandra Ward, BLM Montana State Office, 5001 Southgate Drive, Billings, Montana 59101-4669, 406-896-5052.

SUPPLEMENTARY INFORMATION: This action will permit the consummation of a pending land exchange and reserves the power rights to the United States.

Order

By virtue of the authority vested in the Secretary of the Interior by Section 204 of the Federal Land Policy and Management Act of 1976, 43 U.S.C. 1714 (2000), the Act of June 10, 1920, Section 24, as amended, 16 U.S.C. 818 (2000), and pursuant to the determination of the Federal Energy Regulatory Commission in DVMT-251-000, dated May 3, 2007, it is declared and ordered as follows:

1. At 9 a.m. on July 25, 2008, the following described lands, withdrawn by Executive Order dated July 2, 1910, and Secretarial Order dated May 6, 1910, for Power Site Reserve No. 141 and Federal Power Commission Order dated April 23, 1956, for Power Project No. 2188, will be opened to disposal by land exchange, subject to the provisions of Section 24 of the Federal Power Act as specified by the Federal Energy Regulatory Commission in DVMT-251-000, and subject to valid existing rights, the provisions of existing withdrawals, and the requirements of applicable law:

Principal Meridian, Montana

T. 11 N., R. 2 W.,

Sec. 17, lots 3 and 4.

The areas described aggregate approximately 20 acres in Lewis and Clark County.

2. The State of Montana waived its preference right for public highway rights-of-way or material sites as provided by the Act of June 19, 1920, Section 24, as amended, 16 U.S.C. 818 (2000).

Authority: 43 CFR 2320.

Dated: June 4, 2008.
C. Stephen Allred,
Assistant Secretary—Land and Minerals Management.

[FR Doc. E8-14382 Filed 6-24-08; 8:45 am]

BILLING CODE 4310-$$-P